DEPARTMENT OF JUSTICE

[AAG/A Order No. 292-2002]

Privacy Act of 1974; System of Records

Pursuant to the provisions of the Privacy Act of 1974 (5 U.S.C. 552a), the Immigration and Naturalization Service (INS), Department of Justice, proposes minor changes to the following systems of records:

1. The Asset Management Information System (AMIS), JUSTICE/INS-004, previously published April 27, 1998 (63 FR 20651)

2. Law Enforcement Support Center Database (LESC), JUSTICE/INS-023, previously published May 14, 1997 (62 FR 26555).

INS proposes to add another authority for the AMIS system of records and make an editorial change in the “Safeguards” section. Changes for the LESC system of records include an editorial change to correct the address in the “System Location” and “System Manager” sections and a change in the “Storage” section to reflect that the program no longer maintains records in hardcopy format.

Comments may be directed to Mary Cahill, Management Analyst, Management and Planning Staff, Justice Management Division, Department of Justice, Washington, DC 20530 (Room 1400, National Place Building).

Dated: October 4, 2002.
Robert F. Diegelman,
Acting Assistant Attorney General for Administration.

JUSTICE/INS-004

SYSTEM NAME:

The Asset Management Information System (AMIS).

* * * * *

AUTHORITY FOR MAINTENANCE OF THE SYSTEM:

(1) 40 U.S.C. 486; (2) 41 CFR part 101; (3) 41 CFR part 128; and (4) 41 CFR part 102.

* * * * *

POLICIES AND PRACTICES FOR STORING, RETRIEVING, ACCESSING, RETAINING AND DISPOSING OF RECORDS IN THE SYSTEM:

STORAGE:

* * * * *

RETRIEVABILITY:

* * * * *

SAFEGUARDS:

INS offices are located in buildings under security guard, and access to the premises is by official identification. All records are stored in space which is locked outside of normal office hours. In addition, paper records with social security numbers are stored in locked cabinets or machines. Access to the automated system is controlled by restricted password for use at remote terminals in secured areas.

* * * * *

JUSTICE/INS-023

SYSTEM NAME:

Law Enforcement Support Center Database.

SYSTEM LOCATION:

Immigration and Naturalization Service (INS), Law Enforcement Support Center (LESC), Eastern Regional Office Building, 188 Harvest Lane, Williston, Vermont 05495.

* * * * *

POLICIES AND PRACTICES FOR STORING, RETRIEVING, ACCESSING, RETAINING, AND DISPOSING OF RECORDS IN THE SYSTEM:

STORAGE:

These records are stored in electronic format. Electronic records are stored on magnetic or optical media (i.e., computer hard drives, floppy disks, tapes and optical disks).

* * * * *

SYSTEM MANAGER(S) AND ADDRESS:

Director, Law Enforcement Support Center, Eastern Regional Office, Immigration and Naturalization Service, 188 Harvest Lane, Williston, VT 05495.

* * * * *

[FR Doc. 02-26263 Filed 10-16-02; 8:45 am]

BILLING CODE 4410-10-M